DEPARTMENT OF COMMERCE

Office of the Secretary

[Docket No.: 030520130-3130-01]

Privacy Act Altered System of Records

AGENCY: Office of the Secretary, Department of Commerce.

ACTION: Notice of amendment of Privacy Act System of Records, Commerce/Department system 18: employees personnel files not covered by notices of other agencies and request for comments.

SUMMARY: In accordance with the requirements of the Privacy Act of 1974, as amended, 5 U.S.C. 552a(e)(4) and (11), the Department of Commerce (Department) is issuing notice of our intent to amend the system of records entitled Commerce Department System 18, “Employees Personnel Files Not Covered By Notices of Other Agencies.” This amendment adds to this system those records compiled in conjunction with requesting, approving, denying and/or providing reasonable accommodation under the requirements of E.O. 13164, 7/26/00. We invite public comment on the proposed changes in this publication.

DATES: Comment Date: To be considered, written comments must be submitted on or before July 17, 2003.

Effective Date: Unless comments are received, the amendments will become effective as proposed on the date of publication of a subsequent notice in the Federal Register.

ADDRESSES: Comments may be mailed to Brenda Dolan, U. S. Department of Commerce, Room 6022, 14th and Constitution Avenue, NW., Washington, DC 20230, 202-482-4115.

FOR FURTHER INFORMATION CONTACT: Brenda Brittain at 202-482-8183.

SUPPLEMENTARY INFORMATION: On July 26, 2000, Executive Order 13164, which stipulated that Federal agencies must issue written procedures for providing reasonable accommodation to employees, was promulgated. This amendment adds to the subject system those files containing records compiled in accordance with the E.O. 13164 and the Department policy guidance. Department guidance establishes procedures to implement requirements for the reasonable accommodation issued by the Equal Employment Opportunity Commission in October 2000. In addition, other minor administrative updates are being amended to the system location, categories of records, routine uses, storage, retrievability, notification procedure, and records access procedures.

Commerce/Dept-18

System Name:

Employees Personnel Files Not Covered by Notices of Other Agencies-COMMERCE/DEPT-18.

System Location:

a. For all Departmental employees: Departmental Office of Human Resources Management, Room 5001, U.S. Department of Commerce, Washington, DC 20230 (for automated records and for selected records relating to Senior Executive Service and Departmental Honor Awards).

b. For employees of Departmental Offices, Office of Human Resource Services, Room 5005, U.S. Department of Commerce, Washington, DC 20230.

c. For employees of the Bureau of the Census: Human Resources Division, Bureau of the Census, Federal Building 3, Room 3260, Suitland, Maryland 20233.

d. For employees of International Trade Administration, National Telecommunications and Information Administration, Minority Business Development Agency, Economic Development Administration, Bureau of Industry and Security, and Bureau of Economic Analysis: Human Resources Management, International Trade Administration, Room 3512, U.S. Department of Commerce, Washington, DC 20230.

e. For employees of National Institute of Standards and Technology, Technology Administration and National Technical Information Service: Human Resources Management Division, National Institute of Standards and Technology, Administration Building, Room A-123, Gaithersburg, Maryland 20899-3550.

f. For employees of National Oceanic and Atmospheric Administration: Human Resources Management Office, National Oceanic and Atmospheric Administration, 1305 East-West Highway, 12th Floor, Silver Spring, Maryland 20910, and the following Administrative Support Centers:

DOC/NOAA/Eastern Administrative Support Center, Norfolk Federal Building, 200 Granby Street, Room 815, Norfolk, Virginia 23510; DOC/NOAA/Mountain Administrative Support Center, 325 Broadway, Room GB109, Boulder, Colorado 80305-3328; DOC/NOAA/Western Administrative Support Center, Operations, 7600 Sand Point Way, NE., Seattle, Washington 98115-6349; and DOC/NOAA/Central Administrative Support Center, Federal Building, 601 E. 12th Street, Room 1737, Kansas City, Missouri 64106.

g. For employees of U.S. Patent and Trademark Office, Office of Human Resources, U.S. Patent and Trademark Office, U.S. Department of Commerce, Suite 707, 2011 Crystal Drive, Arlington, Virginia 22202.

h. For employees of Office of Inspector General, Human Resources Management Division, Room 7713, U.S. Department of Commerce, Washington, DC.

i. For employees of U.S. Foreign and Commercial Service, Office of Foreign Service Human Resources, Room 3227, U.S. Department of Commerce, Washington, DC 20230.

j. For Bureau of the Census' National Processing Center, Human Resources Branch, U.S. Department of Commerce, National Processing Center, Bureau of the Census, 1201 East 10th Street, Jeffersonville, IN 47132.

k. For political appointees in the Department of Commerce, Office of White House Liaison, U.S. Department of Commerce, Room 5835, Washington, DC 20230

l. For any Department employee: The immediate office of the employee's supervisor(s).

m. For any reasonable accommodation reports (CD 575): The Office of Civil Rights, U.S. Department of Commerce, Room 6003, Washington, DC 20230

Categories of individuals covered by the system:

Applicants, Current and Former Employees.

Categories of records in the system:

All personnel records in the Department which are subject to the Privacy Act but are not covered in the notices of systems of records published by other agencies with influence upon personnel management in the Department, such as the Office of Personnel Management, Merit Systems Protection Board, Office of Special Counsel, Equal Employment Opportunity Commission, Department of State or Department of Labor. The records of this system may include, but are not limited to: The individual's name; birth date; home and emergency addresses and telephone numbers; personnel actions; qualifications; training; employment history; awards; counseling; reprimands; work assignments; injuries; travel; outside employment; employee development records; incentive awards; employee relations; grievance records; medical records; work-related injury or illness claims; career management program ship personnel; employee overseas assignment(s); minority group statistics program; work performance and appraisal records, including supervisory records; re-employment and priority placement program; executive assignments and merit pay actions; merit assignment programs; retirements; within-grade denials (reconsideration files); reasonable accommodation report (CD 575); automated employee information system; and U.S. Foreign and Commercial Service employee personnel and security information.

Authority for maintenance of the system:

Includes the following, with all revisions and amendments: 5 U.S.C. 301; 44 U.S.C. 3101; E.O. 12107, E.O. 13164.

Routine uses of records maintained in the system, including categories of users and the purposes of such uses:

These records may be disclosed as follows:

(1) In the event that a system of records maintained by the Department to carry out its functions indicates a violation or potential violation of law or contract, whether civil, criminal or regulatory in nature, and whether arising by general statute or particular program statute or contract, or rule, regulation, or order issued pursuant thereto, or the necessity to protect an interest of the Department, the relevant records in the system of records may be referred to the appropriate agency, whether Federal, state, local or foreign, charged with the responsibility of investigating or prosecuting such violation or charged with enforcing or implementing the statute or contract, or rule, regulation or order issued pursuant thereto, or protecting the interest of the Department.

(2) A record from this system of records may be disclosed to a Federal, state or local agency maintaining civil, criminal or other relevant enforcement information or other pertinent information, such as current licenses, if necessary to obtain information relevant to a Department decision concerning the assignment, hiring or retention of an individual, the issuance of a security clearance, the letting of a contract, or the issuance of a license, grant or other benefit.

(3) A record from this system of records may be disclosed to a Federal, state, local or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

(4) A record from this system of records may be disclosed in the course of presenting evidence to a court, magistrate or administrative tribunal, including disclosures to opposing counsel in the course of settlement negotiations.

(5) A record in this system of records may be disclosed to a Member of Congress submitting a request involving an individual when the individual has requested assistance from the Member with respect to the subject matter of the record.

(6) A record in this system of records may be disclosed to the Department of Justice in connection with determining whether disclosure thereof is required by the Freedom of Information Act (5 U.S.C. 552).

(7) A record in this system of records may be disclosed to a contractor of the Department having need for the information in the performance of the contract, but not operating a system of records within the meaning of 5 U.S.C. 552a(m).

(8) A record in this system may be disclosed to the Office of Personnel Management: for personnel research purposes; as a data source for management information; for the production of summary descriptive statistics and analytical studies in support of the function for which the records are collected and maintained; or for related manpower studies.

(9) A record from this system of records may be disclosed to the Administrator, General Services Administration (GSA), or his designee, during an inspection of records conducted by GSA as part of that agency's responsibility to recommend improvements in records management practices and programs under authority of 44 U.S.C. 2904 and 2906. Such disclosure shall be made in accordance with the GSA regulations governing inspection of records for this purpose, and any other relevant (i.e. GSA or Commerce) directive. Such disclosure shall not be used to make determinations about individuals.

(10) A record in this system of records may be disclosed to any source from which additional information is requested in the course of processing a grievance to the extent necessary to identify the individual, inform the source of the purpose(s) of the request, and identify the type of information requested.

(11) A record in this system of records may be disclosed to officials of the Office of Personnel Management, Merit Systems Protection Board, including the Office of the Special Counsel, the Federal Labor Relations Authority and its General Counsel, or the Equal Employment Opportunity Commission, the Department of State, or the Department of Labor when requested in performance of their authorized duties.

(12) A record in this system of records may be disclosed in response to a request for discovery or for appearance of a witness, information that is relevant to the subject matter involved in a pending judicial or administrative proceeding.

(13) A record in this system of records may be disclosed to officials or labor organizations reorganized under the Civil Service Reform Act when relevant and necessary to their duties of exclusive representation concerning personnel policies, practices, and matters affecting work conditions.

(14) A record in this system of records may be disclosed to commercial contractors (debt collection agencies) for the purpose of collecting delinquent debts as authorized by the Debt Collection Act (31 U.S.C. 3718).

(15) A record in this system of records may be disclosed to Senior State Department officials at U.S. Embassies, including the Ambassador, Deputy Chief of Mission, Administrative Counselor and Human Resource Officers, for matters relating to employment or security issues pertaining to Department of Commerce employees working in U.S. Embassies or facilities overseas.

Disclosure to consumer reporting agencies:

Disclosures pursuant to 5 U.S.C. 552a(b)(12): Disclosures may be made from this system to “consumer reporting agencies” as defined in the Fair Credit Reporting Act, 15 U.S.C. 1681a(f), and the Federal Claims Collection Act of 1968 (31 U.S.C. 3701(a)(3).

Policies and practices for storing, retrieving, accessing, retaining, and disposing of records in the system:

Storage:

Records are maintained in computer processible storage media, such as computer hard drives, magnetic disc, tape; in file folders; and on paper lists and forms.

Retrievability:

Records are retrieved by various combinations of name, taxpayer identifying number (i.e., social security number or employer identification number), or debt account number.

Safeguards:

Records are located in lockable metal file cabinets or in secured rooms or secured premises or secured computers with access limited to those whose official duties require access.

Retention and disposal:

All records shall be retained and disposed of in accordance with National Archives and Records Administration regulations (36 CFR Subchapter B—Records Retention); Departmental directives and comprehensive records schedules.

System manager(s) and address:

Same as listed under System Location.

Notification procedure:

For Bureau of Economic Analysis records at locations a and d, information may be obtained from: Chief, Management and Organization Branch, Bureau of Economic Analysis, Tower Building, 1401 K Street, NW., Washington, DC 20230;

For National Telecommunications and Information Administration records at locations a and d, information may be obtained from: Privacy Officer, National Telecommunications and Information Administration, U.S. Department of Commerce, Washington, DC 20230; For National Technical Information Service records at locations a and e, information may be obtained from: Privacy Officer, National Technical Information Service, U.S. Department of Commerce, Washington, DC 20230;

For Minority Business Development Agency records at locations a and d, information may be obtained from: Privacy Officer, Office of Chief Counsel, Minority Business Development Agency, U.S. Department of Commerce, Washington, DC 20230;

For all other records at locations a and b, information may be obtained from Departmental Privacy Act Officer, Office of Executive Assistance Management, U.S. Department of Commerce, Washington, DC 20230;

For records at location c, information may be obtained from Associate Director for Finance and Administration, Bureau of the Census, Federal Building 3, Washington, DC 20230;

For records at location d, information may be obtained from Privacy Act Officer, Office of Management and Systems, International Trade Administration, Room 4001B, U.S. Department of Commerce, Washington, DC 20230;

For records at location e, information may be obtained from: Chief, Management and Organization Division, Room A525, Administration Building, National Institute of Standards and Technology, Gaithersburg, Maryland 20899-3220;

For records at location f, information may be obtained from: Director, Human Resources Management Offices, National Oceanic and Atmospheric Administration, 1305 East-West Highway, 12th Floor, Silver Spring, Maryland 20910;

For records at location g, information may be obtained from: Chief Financial Officer and Chief Administrative Officer, U.S. Patent and Trademark Office, Washington, DC 20231;

For records at location h, information may be obtained from: Personnel Management Division, Economic Development Administration, Room 7089, U.S. Department of Commerce, Washington, DC 20230;

For Bureau of Industry and Security records at location d, information may be obtained from: Director, Office of Planning, Evaluation and Management, and various Director's offices, Room 6883, U.S. Department of Commerce, Washington, DC 20230;

For Technology Administration records at location e, information may be obtained from: Human Resources Management Division, National Institute of Standards and Technology, Administration Building, Room A-123, Gaithersburg, Maryland 20899-3550;

For records at location k, information may be obtained from: Privacy Officer for employee's unit.

For records at location l, information may be obtained from: Privacy Officer for employee's operating unit.

Requester should provide name, social security number, and time or organization unit of employment pursuant to the inquiry provisions of the Department's rules which appear in 15 CFR part 4b.

For records at location h, information may be obtained from: Personnel Management Division, Economic Development Administration, Room 7089, U.S. Department of Commerce, Washington, DC.

For records at location i, information may be obtained from: Office of Foreign Service Human Resources, Room 3227, U.S. Department of Commerce, Washington, DC 20230.

For records at location j, information may be obtained from: Human Resources Branch, U.S. Department of Commerce, National Processing Center, Bureau of the Census, 1201 East 10th Street, Jeffersonville, IN 47132.

For records at location m, information may be obtained from Departmental Privacy Act Officer, Office of Executive Assistance Management, U.S. Department of Commerce, Washington, DC 20230.

Record access procedures:

Request from individuals should be addressed to: same address as stated in the Notification section above.

Contesting record procedures:

The Department's rules for access, for contesting contents, and appealing initial determinations by the individual concerned appear in 15 CFR part 4b. Use address in notification section.

Record source categories:

Subject individual and those authorized by the individual to furnish information; others involved in reference of the individual; physicians; employee's supervisor; for grievance records information is also provided by the testimony of witnesses, by agency officials, and from related correspondence from organizations or persons.

Dated: June 10, 2003.
Brenda Dolan,
Department of Commerce, Freedom of Information/Privacy Act Officer.

[FR Doc. 03-15208 Filed 6-16-03; 8:45 am]

BILLING CODE 3510-BP-P